DEPARTMENT OF LABOR

Employment and Training Administration

[NAFTA—4238]

Dekko Automotive Technologies Mount Ayr, IA; Notice of Termination of Investigation

Pursuant to Title V of the North American Free Trade Agreement Implementation Act (Pub. L. 103-1 concerning transitional adjustment assistance, hereinafter called NAFTA-TAA and in accordance with section 250(a), Subchapter D, Chapter 2, Title II, of the Trade Act of 1974, as amended (19 USC 2331), an investigation was initiated on October 13, 2000, in response to a petition filed on behalf of workers at Dekko Automotive Technologies, Mount Ayr, Iowa. Workers produce wire harness assembles.

The petitioner has stated that they no longer wish to pursue the petition for the Mount Ayr facility. Consequently, further investigation in this case would serve no purpose, and the investigation has been terminated.

Signed in Washington, D.C. this 20th day of December, 2000.
Linda G. Poole,
Certifying Officer, Division of Trade Adjustment Assistance.

[FR Doc. 01-938 Filed 1-10-01; 8:45 am]

BILLING CODE 4510-30-M